DEPARTMENT OF COMMERCE

International Trade Administration

[A-533-823]

Silicomanganese from India: Partial Rescission of Antidumping Duty Administrative Review; 2014-2015

AGENCY: Enforcement and Compliance, International Trade Administration, Department of Commerce.

ACTION: Notice.

SUMMARY: The Department of Commerce (the Department) is partially rescinding its administrative review of the antidumping duty order on silicomanganese from India for the period of review (POR) May 1, 2014 through April 30, 2015.

DATES: Effective Date: December 8, 2015.

FOR FURTHER INFORMATION CONTACT: David Lindgren, Office VII, Antidumping and Countervailing Duty Operations, Enforcement and Compliance, International Trade Administration, U.S. Department of Commerce, 14th Street and Constitution Avenue NW., Washington, DC 20230; telephone: (202) 482-3870.

Background

SUPPLEMENTARY INFORMATION: On May 1, 2015, the Department published a notice of opportunity to request an administrative review of the antidumping duty order on silicomanganese from India for the POR.¹ Petitioners,² in accordance with section 751(a) of the Tariff Act of 1930, as amended (the Act), and 19 CFR 351.213(b), filed a request for an antidumping duty administrative review of two companies: Nava Bharat Ventures Limited (Nava) and Universal Ferro and Allied Chemicals, Ltd. (Universal).³ Subsequently, on July 1, 2015, the Department published a notice of initiation of administrative review with respect to Nava and Universal.⁴ Nava filed a letter on July 8, 2015, with the Department stating that it had no shipments during the POR.⁵ Accordingly, the Department sent a no shipment inquiry to U.S. Customs and Border Protection (CBP) on July 15, 2015, requesting a response within 10 days if there was any information indicating that Nava had shipments during the POR. The Department did not receive any notification from CBP that Nava had shipments during the POR. On August 25, 2015, Petitioners withdrew their request for an antidumping duty administrative review of Nava.⁶

¹ See Antidumping or Countervailing Duty Order, Finding, or Suspended Investigation; Opportunity To Request Administrative Review, 80 FR 24898 (May 1, 2015).

² Eramet Marietta, Inc. and Felman Production, LLC.

³ See Letter from Petitioners, “Silicomanganese from India: Request for Administrative Review of Antidumping Order,” dated June 1, 2015.

⁴ See Initiation of Antidumping and Countervailing Duty Administrative Reviews, 80 FR 37588 (July, 1, 2015).

⁵ See Letters from Nava, “Silicomanganese from India; Nava Bharat no shipments letter,” dated July 8, 2015 and July 9, 2015.

⁶ See Letter from Petitioners, “Silicomanganese from India: Withdrawal of Request for Administrative Review of Antidumping Order,” dated August 25, 2015.

Partial Rescission of Review

Pursuant to 19 CFR 351.213(d)(1), the Secretary will rescind an administrative review, in whole or in part, if the parties that requested the review withdraw the request within 90 days of the date of publication of the notice of initiation of the requested review. Petitioners' August 25, 2015 withdrawal request was submitted within the 90-day period and thus is timely. Because Petitioners' withdrawal of their requests for review is timely and because no other party requested a review of Nava, we are rescinding this review with respect to this company, in accordance with 19 CFR 351.213(d)(1). As the request for an administrative review for Nava was the only request withdrawn, the instant review will continue with respect to Universal.

Assessment

The Department will instruct CBP to assess antidumping duties on all appropriate entries. For Nava, the company for which this review is rescinded, antidumping duties shall be assessed at a rate equal to the cash deposit of estimated antidumping duties required at the time of entry, or withdrawal from warehouse, for consumption, in accordance with 19 CFR 351.212(c)(1)(i). The Department intends to issue assessment instructions to CBP 15 days after the date of publication of this notice.

Notification to Importers

This notice serves as the only reminder to importers of their responsibility under 19 CFR 351.402(f)(2) to file a certificate regarding the reimbursement of antidumping duties prior to liquidation of the relevant entries during this review period. Failure to comply with this requirement may result in the presumption that reimbursement of antidumping duties occurred and the subsequent assessment of double antidumping duties.

Notification Regarding Administrative Protective Orders

This notice also serves as a final reminder to parties subject to administrative protective order (APO) of their responsibility concerning the return or destruction of proprietary information disclosed under APO in accordance with 19 CFR 351.305(a)(3). Timely written notification of the return/destruction of APO materials or conversion to judicial protective order is hereby requested. Failure to comply with the regulations and terms of an APO is a sanctionable violation.

This notice is issued and published in accordance with section 751 of Act and 19 CFR 351.213(d)(4).

Dated: December 2, 2015.
Christian Marsh,
Deputy Assistant Secretary for Antidumping and Countervailing Duty Operations.

[FR Doc. 2015-30895 Filed 12-7-15; 8:45 am]

BILLING CODE 3510-DS-P